DEPARTMENT OF LABOR

Employment and Training Administration

[TA-W-53,938]

Oshkosh B'Gosh, Inc., Oshkosh, Wisconsin; Notice of Determination Regarding Application for Reconsideration

By application of February 3, 2004, a petitioner requested administrative reconsideration of the Department's negative determination regarding eligibility for workers and former workers of the subject firm to apply for Trade Adjustment Assistance (TAA). The denial notice was signed on January 12, 2004 and published in the Federal Register on February 6, 2004 (69 FR 5866).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Oshkosh B'Gosh, Inc., Oshkosh, Wisconsin engaged in activities related to information technology and administrative services at the Corporate Headquarters, was denied because the petitioning workers did not produce an article within the meaning of Section 222 of the Act.

The petitioner alleges that the petitioning group of workers were in direct contact with and solely responsible in supplying communications support to Oshkosh B'Gosh manufacturing facilities in Albany and Liberty, Kentucky. The workers of these facilities were certified eligible for TAA on November 24, 2003.

A company official was contacted to verify whether workers at the subject facility were performing services for Oshkosh B'Gosh manufacturing plants during the relevant period. The company official stated that only workers of the Computer Marking Department and Information Technology Department of the subject firm were in support of production at the manufacturing facilities within Oshkosh B'Gosh, Inc. Workers of these departments performed information technologies functions and prepared computerized instructions for production affiliates and were separately identifiable from all other workers at the subject facility. It was further revealed that the worker separations from Computer Marking and Information Technology Departments were caused by a reduced demand for their services from several manufacturing subdivisions which shifted production to foreign countries during the relevant period. The official further reported that the rest of the employees separated from the subject firm during the relevant time period did not support production at the manufacturing facilities and were not affected by their closures.

In accordance with Section 246 of the Trade Act of 1974 (26 U.S.C. 2813), as amended, the Department of Labor herein presents the results of its investigation regarding certification of eligibility to apply for alternative trade adjustment assistance (ATAA) for older workers of the Oshkosh B'Gosh, Inc., Computer Marking Department and Information Technology Department, Oshkosh, Wisconsin.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The Department has determined that criterion 1 has not been met. The investigation revealed that less than three workers of the affected group of workers are age 50 of over.

Conclusion

After careful review of the facts obtained in the investigation, I determine that increases of imports of articles like or directly competitive with articles produced by Oshkosh B'Gosh, Inc. contributed importantly to the total or partial separation of workers and to the decline in sales or production at that firm or subdivision. In accordance with the provisions of the Act, I make the following certification:

All workers of the Oshkosh B'Gosh, Inc., Computer Marking Department and Information Technology Department, Oshkosh, Wisconsin, who became totally or partially separated from employment on or after December 29, 2002 through two years from the date of this certification, are eligible to apply for adjustment assistance under Section 223 of the Trade Act of 1974, and are denied eligibility to apply for alternative trade adjustment assistance under Section 246 of the Trade Act of 1974 and;

I further determine that all other workers at Oshkosh B'Gosh, Inc., Oshkosh, Wisconsin are denied eligibility to apply for adjustment assistance under Section 223 of the Trade Act of 1974 and are denied eligibility to apply for alternative trade adjustment assistance under Section 246 of the Trade Act of 1974.

Signed at Washington, DC, this 14th day of July, 2004.
Elliott S. Kushner,
Certifying Officer, Division of Trade Adjustment Assistance.

[FR Doc. 04-16772 Filed 7-22-04; 8:45 am]

BILLING CODE 4510-30-P